DEPARTMENT OF ENERGY

Federal Energy Regulatory Commission

Combined Notice Of Filings #2

Take notice that the Commission received the following electric rate filings:

Docket Numbers: ER16-270-001.

Applicants: Midcontinent Independent System Operator, Inc.

Description: Tariff Amendment: 2015-12-15_SA 2863 Amendment to ATC Construction Management Agreement to be effective 10/30/2015.

Filed Date: 12/15/15.

Accession Number: 20151215-5161.

Comments Due: 5 p.m. ET 1/5/16.

Docket Numbers: ER16-524-000.

Applicants: Wolverine Holdings, L.P.

Description: § 205(d) Rate Filing: Tariff Change to be effective 1/1/2016.

Filed Date: 12/15/15.

Accession Number: 20151215-5079.

Comments Due: 5 p.m. ET 1/5/16.

Docket Numbers: ER16-525-000.

Applicants: Mesquite Solar 1, LLC.

Description: § 205(d) Rate Filing: Mesquite Solar 1, LLC Amended and Restated Inter-Phase Co-Tenancy Agreement to be effective 12/17/2015.

Filed Date: 12/15/15.

Accession Number: 20151215-5092.

Comments Due: 5 p.m. ET 1/5/16.

Docket Numbers: ER16-526-000.

Applicants: Sempra Generation, LLC.

Description: § 205(d) Rate Filing: Sempra Generation, LLC Revised Market-Based Rate Tariff to be effective 12/16/2015.

Filed Date: 12/15/15.

Accession Number: 20151215-5093.

Comments Due: 5 p.m. ET 1/5/16.

Docket Numbers: ER16-527-000.

Applicants: Mesquite Solar 2, LLC.

Description: Initial rate filing: Mesquite Solar 2, LLC Certificate of Concurrence to Amended and Restated Agmt to be effective 12/17/2015.

Filed Date: 12/15/15.

Accession Number: 20151215-5118.

Comments Due: 5 p.m. ET 1/5/16.

Docket Numbers: ER16-528-000.

Applicants: Duke Energy Indiana, Inc.

Description: Notice of Termination of Rate Schedule No. 271 of Duke Energy Indiana, Inc.

Filed Date: 12/15/15.

Accession Number: 20151215-5121.

Comments Due: 5 p.m. ET 1/5/16

Docket Numbers: ER16-529-000.

Applicants: Mesquite Solar 3, LLC.

Description: Initial rate filing: Mesquite Solar 3, LLC Certificate of Concurrence to Amended and Restated Agmt to be effective 12/17/2015.

Filed Date: 12/15/15.

Accession Number: 20151215-5124.

Comments Due: 5 p.m. ET 1/5/16.

Docket Numbers: ER16-530-000.

Applicants: SEP II, LLC.

Description: § 205(d) Rate Filing: SEP II, LLC Certificate of Concurrence to Amended and Restated Agmt to be effective 12/17/2015.

Filed Date: 12/15/15.

Accession Number: 20151215-5125.

Comments Due: 5 p.m. ET 1/5/16.

Docket Numbers: ER16-531-000.

Applicants: Rolling Thunder I Power Partners, LLC.

Description: § 205(d) Rate Filing: Revised Market-Based Rate Tariff to be effective 2/14/2016.

Filed Date: 12/15/15.

Accession Number: 20151215-5133.

Comments Due: 5 p.m. ET 1/5/16.

Docket Numbers: ER16-532-000.

Applicants: PJM Interconnection, L.L.C.

Description: § 205(d) Rate Filing: Revisions to OATT Att DD to Permit Release of Capacity in Incremental Auctions to be effective 2/15/2016.

Filed Date: 12/15/15.

Accession Number: 20151215-5171.

Comments Due: 5 p.m. ET 1/5/16.

Docket Numbers: ER16-533-000.

Applicants: Midcontinent Independent System Operator, Inc.

Description: § 205(d) Rate Filing: 2015-12-15 Coordinated Transaction Scheduling Filing to be effective 3/1/2017.

Filed Date: 12/15/15.

Accession Number: 20151215-5231.

Comments Due: 5 p.m. ET 1/5/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 15, 2015.
Nathaniel J. Davis, Sr.,
Deputy Secretary.

[FR Doc. 2015-31954 Filed 12-18-15; 8:45 am]

BILLING CODE 6717-01-P